DEPARTMENT OF DEFENSE

GENERAL SERVICES ADMINISTRATION

NATIONAL AERONAUTICS AND SPACE ADMINISTRATION

48 CFR Chapter 1

[Docket No. FAR-2022-0051, Sequence No. 4]

Federal Acquisition Regulation; Federal Acquisition Circular 2022-07; Introduction

AGENCY: Department of Defense (DoD), General Services Administration (GSA), and National Aeronautics and Space Administration (NASA).

ACTION: Summary presentation of a final rule.

SUMMARY: This document summarizes technical amendments to the Federal Acquisition Regulation (FAR) in this Federal Acquisition Circular (FAC) 2022-07. A companion document, the Small Entity Compliance Guide (SECG), follows this FAC.

DATES: For the effective date, see the separate document, which follows.

ADDRESSES: The FAC, including the SECG, is available at https://www.regulations.gov.

FOR FURTHER INFORMATION CONTACT: For information pertaining to status or publication schedules, contact the Regulatory Secretariat Division at 202-501-4755 or GSARegSec@gsa.gov. Please cite FAC 2022-07, Technical Amendments.

Rules Listed in FAC 2022-07
Subject
Technical Amendments.

SUPPLEMENTARY INFORMATION: A summary for the FAR rule follows. For the actual technical amendments made by this rule, refer to the specific subject set forth in the document following the summary. FAC 2022-07 amends the FAR as follows:

Technical Amendments

Editorial changes are made at FAR 4.402, 13.003, 17.502-1, 23.704, 51.102, and 52.217-3.

William F. Clark,
Director, Office of Government-wide Acquisition Policy, Office of Acquisition Policy, Office of Government-wide Policy.

Federal Acquisition Circular (FAC) 2022-07 is issued under the authority of the Secretary of Defense, the Administrator of General Services, and the Administrator of National Aeronautics and Space Administration.

Unless otherwise specified, all Federal Acquisition Regulation (FAR) and other directive material contained in FAC 2022-07 is effective August 10, 2022.

John M. Tenaglia,
Principal Director, Defense Pricing and Contracting, Department of Defense.
Jeffrey A. Koses,
Senior Procurement Executive/Deputy CAO, Office of Acquisition Policy, U.S. General Services Administration.
Karla Smith Jackson,
Assistant Administrator for Procurement, Senior Procurement Executive, National Aeronautics and Space Administration.

[FR Doc. 2022-17069 Filed 8-9-22; 8:45 am]

BILLING CODE 6820-EP-P